DEPARTMENT OF ENERGY

Federal Energy Regulatory Commission

[Docket No. EC02-38-000, et al.]

Montana-Dakota Utilities Co., et al.; Electric Rate and Corporate Regulation Filings

December 31, 2001.

Take notice that the following filings have been made with the Commission. Any comments should be submitted in accordance with Standard Paragraph E at the end of this notice.

1. Montana-Dakota Utilities Co., a Division of MDU Resources Group, Inc.

[Docket No. EC02-38-000]

Take notice that on December 26, 2001, Montana-Dakota Utilities Co., a Division of MDU Resources Group, Inc. (Montana-Dakota) tendered for filing with the Federal Energy Regulatory Commission an Application to Transfer Operational Control Over Transmission Facilities to the Midwest Independent Transmission System Operator, Inc. under Section 203 of the Federal Power Act.

Comment Date: January 16, 2002.

2. Southern California Edison Company

[Docket No. ER02-608-000]

Take notice that on December 26, 2001, Southern California Edison Company (SCE) tendered for filing an amendment to the Firm Transmission Service Agreement (Victorville-Lugo/Miday) between SCE and M-S-R Public Power Agency (M-S-R) First Revised Rate Schedule FERC No. 339 (M-S-R Agreement)

The amendment to the M-S-R Agreement clarified scheduling obligations under that Agreement by deleting provisions concerning scheduling and dispatch service.

A copy of this filing was served upon the Public Utilities Commission of the State of California, the ISO and M-S-R.

Comment Date: January 16, 2002.

3. ExTex LaPorte Limited Partnership

[Docket No. EG02-60-000]

Take notice that on December 21, 2001, ExTex LaPorte Limited Partnership (ExTex) filed with the Federal Energy Regulatory Commission (Commission) an Application for Determination of Exempt Wholesale Generator Status pursuant to Section 32(a)(1) of the Public Utility Holding Company Act of 1935 and Part 365 of the Commissions regulations.

ExTex currently is an EWG and owns and operates a 165 MW combustion turbine generating facility located in LaPorte, Texas. ExTex will acquire two additional generating facilities located in the Electric Reliability Council of Texas. ExTex will acquire the Handley Steam Electric Station (“Handley”) and the Mountain Creek Steam Electric Station (Mountain Creek). Handley is a 1,440 MW gas-fired steam turbine generating facility located in Fort Worth, Texas. Mountain Creek is 894 MW gas-fired steam turbine generating facility located near Dallas, Texas.

Comment Date: January 22, 2002. The Commission will limit its consideration of comments to those that concern the adequacy or accuracy of the application.

4. Kansas City Power & Light Company

[Docket No. ER99-1005-001]

Take notice that on December 27, 2001, Kansas City Power & Light Company (KCPL) tendered for filing an updated market power study under KCPLs market-based rate tariff.

Copies of this filing have been served on the Kansas Corporation Commission and the Missouri Public Service Commission.

Comment Date: January 17, 2002.

5. Cleco Power LLC

[Docket Nos. ER01-1099-007, ER01-3095-001, and ER02-54-001]

Take notice that on December 26, 2001, Cleco Power LLC (Cleco Power) tendered for filing with the Federal Energy Regulatory Commission (Commission), a Notice of Cancellation pursuant to 18 CFR 35.15 and Cancellation Sheets, effective January 1, 2002, canceling Cleco Utility Group Inc.'s (Cleco Utility) Rate Schedules 6, 12, and 18 and all supplements. Cleco Power simultaneously filed Cleco Power Rate Schedules 9 and 15, which are essentially the same as Cleco Utility Rate Schedules 12 and 18, respectively. Cleco Power states that Cleco Utility's Rate Schedule 6 with Gulf States Utilities Company will not be filed as a Cleco Power Rate Schedule because the agreement with Gulf States Utilities Company has expired by its own terms.

Take notice that Cleco Power filed Substitute Original Sheet Nos. 77 and 78 to Cleco Powers FERC Electric Tariff, Original Volume No. 1. Cleco Power also gave notice that Cleco Utility service agreements T1S4 and T1S19, that were canceled effective May 29, 2001, will not be refiled as Cleco Power service agreements because service is no longer being provided under them.

Cleco Power also filed a Third Substitute Original Sheet No. 26 to RS 12 with the City of Lafayette, Louisiana.

Comment Date: January 16, 2002.

6. Carolina Power & Light Company and Florida Power Corporation

[Docket Nos. ER01-1807-008, and ER01-2020-005]

Take notice that on December 27, 2001 Progress Energy, Inc. (Progress Energy), on behalf of Florida Power Corporation (FPC), tendered for filing revised service agreements (Revised Service Agreements) under FPC's open-access transmission tariff, FERC Electric Tariff, Second Revised Volume No. 6 (FPCs OATT), in compliance with the Commissions June 25, 2001, September 21, 2001 and November 26, 2001 orders in these proceedings.

See Carolina Power & Light Co. and Florida Power Corp., 95 FERC ¶ 61,429 (2001) (Carolina Power). Progress Energy also tendered: (1) An index of FPCs Revised Service Agreements (FPC Index); (2) revised versions of indices that were contained in the November 26, 2001 filing in these proceedings; (3) Notices of Cancellation of service agreements under both FPCs OATT and Carolina Power & Light Company's (CP&L), FERC Electric Tariff, Third Revised Volume No. 3 (CP&L's OATT); (4) canceled service agreement cover sheets to cancel service agreements under both FPCs OATT and CP&L's OATT in compliance with Order No. 614; and (5) First Revised Service Agreements filed under both FPCs OATT and CP&Ls OATT to reflect the succession of one entity by another.

Progress Energy respectfully requests that the Revised Service Agreements become effective on the date set forth on the cover sheet for each Revised Service Agreement and that the Notices of Cancellation become effective as of February 25, 2002.

Copies of the filing were served upon the Commissions official service list and the North Carolina Utilities Commission, the South Carolina Public Service Commission and the Florida Public Service Commission.

Comment Date: January 17, 2002.

7. New York Independent System Operator, Inc.

[Docket No. ER01-2967-002]

Take notice that on December 26, 2001, the New York System Operator, Inc. (NYISO) filed revisions to Attachment S of its Open Access Transmission Tariff, which contains rules to allocate responsibility for the cost of new interconnection facilities, pursuant to the Commission's Order issued on October 26, 2001, in the above-captioned docket.

The NYISO has requested an effective date of September 26, 2001, for the compliance filing, the effective date granted in the Commission's Order issued on October 26, 2001.

The NYISO has served a copy of the compliance filing on each person designated on the official service list maintained by the Commission for the above-captioned docket.

Comment Date: January 16, 2002.

8. New York Independent System Operator, Inc.

[Docket No. ER01-2967-003]

Take notice that on December 27, 2001, the New York System Operator, Inc. (NYISO) filed revisions to Sheet Nos. 39 and 39A of its Open Access Transmission Tariff, to complete the compliance filing made on December 26, 2001 pursuant to the Commission's Order issued on October 26, 2001, in the above-captioned docket.

The NYISO has requested an effective date of September 26, 2001, for the compliance filing, the effective date granted in the Commission's Order issued on October 26, 2001.

The NYISO has served a copy of the compliance filing on each person designated on the official service list maintained by the Commission for the above-captioned docket.

Comment Date: January 17, 2002.

9. Southern Indiana Gas and Electric Company

[Docket No. ER02-603-000]

Take notice that on December 26, 2001, Southern Indiana Gas and Electric Company (SIGECO), tendered for filing an Agreement for Firm Point-To-Point Transmission Service with Dynegy Power Marketing, Inc. under Part II of SIGECO's Transmission Services Tariff, Docket No. 0A96-117-000, filed July 9, 1996. To date, no Service has been provided by SIGECO to Dynegy Power Marketing, Inc. pursuant to this Agreement.

SIGECO requests waiver of the 60-day prior notice requirement to allow the service agreements to become effective as of November 15, 2001.

Comment Date: January 16, 2002.

10. Ameren Energy, Inc. on behalf of Union Electric Company d/b/a AmerenUE and Ameren Energy Generating Company

[Docket No. ER02-604-000]

Take notice that on December 26, 2001, Ameren Energy, Inc. (Ameren Energy), on behalf of Union Electric Company d/b/a AmerenUE and Ameren Energy Generating Company (collectively, the Ameren Parties), pursuant to section 205 of the Federal Power Act, 16 U.S.C. 824d, and the market rate authority granted to the Ameren Parties, submitted for filing umbrella power sales service agreements under the Ameren Parties' market rate authorizations entered into with OGE Energy Resources, Inc. and Florida Power Corporation.

Ameren Energy seeks Commission acceptance of these service agreements effective December 1, 2001.

Copies of this filing were served on the public utilities commissions of Illinois and Missouri and the respective counterparties.

Comment Date: January 16, 2002.

11. Puget Sound Energy, Inc.

[Docket No. ER02-605-000]

Take notice that on December 26, 2001, Puget Sound Energy, Inc. (PSE), tendered for filing a proposed Sixth Revised Volume No. 7 of its Open Access Transmission Tariff to reflect its reclassification of transmission and distribution facilities, desegregate and reduce its rates in accordance with the reclassification, and make other non-substantive changes in compliance with Order 614.

PSE requests an effective date of January 1, 2002 for the above-described tariff changes.

Copies of the filing were served on PSE's jurisdictional customers and the Washington State Utilities and Transportation Commission.

Comment Date: January 16, 2002.

12. PJM Interconnection, L.L.C.

[Docket No. ER02-606-000]

Take notice that on December 26, 2001, PJM Interconnection, L.L.C. (PJM), submitted for filing amendments to Schedules 11 and 11A the Amended and Restated Operating Agreement of PJM Interconnection, L.L.C. (Operating Agreement) to facilitate operation of the capacity credit markets in both PJM and PJM West (when it becomes effective) and to clarify certain provisions. Specifically the amendments eliminate (1) reference to “Fixed Block” bids, which are not contemplated; (2) conducting multiple Daily Markets on a Friday or day before a holiday; and (3) the requirement that Sell Offers and Buy Bids for the Daily Capacity market must be received on the day on which the market is to be conducted. Certain sections in Schedule 11 of the Operating Agreement also are deleted because the transition period for the capacity market in the PJM control area has expired and the sections no longer apply.

PJM is requesting an effective date for the amendments of January 1, 2002.

Copies of this filing were served upon all PJM members, Allegheny Power, and each state electric utility regulatory commission in the PJM control area and PJM West region.

Comment Date: January 16, 2002.

13. Michigan Electric Transmission Company

[Docket No. ER02-607-000]

Take notice that on December 26, 2001, Michigan Electric Transmission Company (METC) tendered for filing an unexecuted Generator Interconnection and Operating Agreement between METC and Mirant Zeeland, LLC.

METC requested that the Agreement become effective December 26, 2001.

Copies of the filing were served upon Generator and the Michigan Public Service Commission.

Comment Date: January 16, 2002.

Standard Paragraph

E. Any person desiring to be heard or to protest such filing should file a motion to intervene or protest with the Federal Energy Regulatory Commission, 888 First Street, NE., Washington, DC. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 02-278 Filed 1-4-02; 8:45 am]

BILLING CODE 6717-01-P